DEPARTMENT OF THE INTERIOR

Bureau of Land Management

[LLCO921000-L13200000-EL0000, COC-74911]

Notice of Invitation To Participate; Coal Exploration License Application COC-74911, Colorado

AGENCY: Bureau of Land Management, Interior.

ACTION: Notice.

SUMMARY: Pursuant to the Mineral Leasing Act of 1920, as amended by the Federal Coal Leasing Amendments Act of 1976, and to Bureau of Land Management (BLM) regulations, all interested parties are hereby invited to participate with Oxbow Mining, LLC, on a pro rata cost-sharing basis, in a program for the exploration of coal deposits owned by the United States of America in lands located in Delta County, Colorado.

DATES: This notice of invitation was published in the Delta County Independent newspaper once each week for two consecutive weeks beginning the week of July 6, 2011, prior to publication the Federal Register. Any party electing to participate in this exploration program must send written notice to both the BLM and Oxbow Mining, LLC, as provided in the ADDRESSES section below no later than 30 days after publication of this notice in the Federal Register or 10 calendar days after the last publication of this notice in the Delta County Independent newspaper, whichever is later.

ADDRESSES: Copies of the exploration plan are available for review during normal business hours in the following offices (case file number COC-74911): BLM, Colorado State Office, 2850 Youngfield Street, Lakewood, Colorado 80215; and BLM, Uncompahgre Field Office, 2465 S. Townsend Avenue, Montrose, Colorado 81401. The written notice should be sent to the following addresses: Oxbow Mining, LLC, Attn: Steve Weist, 3737 Hwy 133, Somerset, Colorado 81434 and BLM, Colorado State Office, Colorado State Director, 2850 Youngfield Street, Lakewood, Colorado 80215.

FOR FURTHER INFORMATION CONTACT: Kurt M. Barton at (303) 239-3714, kbarton@blm.gov; or Desty Dyer at (970) 240-5302, ddyer@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The purpose of the exploration program is to gain structural and quality information about the coal. The BLM regulations at 43 CFR 3410 require the publication of an invitation to participate in the coal exploration in the Federal Register. The Federal coal resources included in the exploration license application are located in the following described lands in Delta County, Colorado:

6th Principal Meridian

T. 13 S., R. 92 W.,

Sec. 7, Lots 13-20 inclusive;

Sec. 8, S½;

Sec. 9, S½;

Sec. 15, Lots 13, 18, 19, and 22;

Sec. 16, All;

Sec. 17, All;

Sec. 18, All;

Sec. 19, All;

Sec. 20, All;

Sec. 21, All;

Sec. 22, Lots 4, 5, 12, and 13;

Sec. 28, Lots 2-7 inclusive;

Sec. 29, All; and

Sec. 30, All.

T. 13 S., R. 93 W.,

Sec. 9, Lots 9-16 inclusive;

Sec. 10, Lots 9-16 inclusive;

Sec. 11, Lots 9-16 inclusive;

Sec. 12, Lots 9-16 inclusive;

Sec. 13, All;

Sec. 14, All;

Sec. 15, Lots 1-10 inclusive, and lots 14-15 inclusive;

Sec. 16, Lots 1-4 inclusive;

Sec. 23, All;

Sec. 24, All;

Sec. 25, All;

Sec. 26, All;

Sec. 35, All; and

Sec. 36, Lots 1-8 inclusive, and lots 11-14 inclusive.

Containing 14,044 acres, more or less.

The proposed exploration program is fully described in, and will be conducted pursuant to, an exploration plan to be approved by the BLM.

Authority: 43 CFR 3410.2-1(c)(1).

Helen M. Hankins,
State Director.

[FR Doc. 2011-21966 Filed 8-26-11; 8:45 am]

BILLING CODE 4310-JB-P